DEPARTMENT OF THE INTERIOR

National Park Service

[NPS-WASO-NAGPRA-15180; PPWOCRADN0-PCU00RP14.R50000]

Notice of Inventory Completion: Texas A&M University, College Station, TX

AGENCY: National Park Service, Interior.

ACTION: Notice.

SUMMARY: Texas A&M University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Texas A&M University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Texas A&M University at the address in this notice by May 19, 2014.

ADDRESSES: Dr. Suzanne L. Eckert, Department of Anthropology, Texas A&M University, College Station, TX 77843-4352, telephone (979) 845-5242.

SUPPLEMENTARY INFORMATION: Notice is here given in accordance with the Native American Graves Protection and Repatriation Act (NAGPRA), 25 U.S.C. 3003, of the completion of an inventory of human remains under the control of Texas A&M University, College Station, TX. The human remains were removed from Hill and Leon Counties, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Texas A&M University (TAMU) professional staff in 1995. In 2010, representatives of the Comanche Nation, Oklahoma; Delaware Nation, Oklahoma; Kickapoo Tribe of Oklahoma; Tonkawa Tribe of Indians of Oklahoma; Tunica-Biloxi Indian Tribe; and the Wichita and Affiliated Tribes (Wichita, Keechi, Waco & Tawakonie), Oklahoma, were invited to consult with TAMU for the purpose of determining the place and manner of the repatriation. The Kickapoo Tribe of Oklahoma contacted TAMU with an interest in having these remains repatriated; no representatives from the other tribes contacted TAMU in response to this invitation.

History and Description of the Remains

At an unknown date, human remains representing, at minimum, two individuals were removed from the Kent Creek site (41HL66) in Hill County, TX, by a private individual. At the time of donation to TAMU, it was indicated that these human remains (TAMU NAGPRA 40) dated to the Palo Duro phase (710 A.D. ± 120) based on artifacts recovered from the site. The human remains were determined to be one adult female and one adult of indeterminate sex. No known individuals were identified. No associated funerary objects are present.

At an unknown date, human remains representing, at minimum, one individual were removed from the Smith site (41LN294) in Leon County, TX, as part of a salvage excavation. At the time of their donation, these human remains (TAMU NAGPRA 41) were indicated to be prehistoric, without further explanation. Analysis of the human remains by physical anthropologists indicates that this individual was of Native American origins. The human remains were determined to be one adult male. No known individuals were identified. No associated funerary objects are present.

Based on geographic location of all the sites in this notice, TAMU staff found it reasonable to trace a shared identity between the human remains in this notice and the following historic groups: Cantona, Ervipiame, Mayeye, Yojuane, Delaware, Kickapoo, Tonkawa, Tunica, Biolixi, and Wichita. Archeological and linguistic evidence, historical records, and/or traditional beliefs indicate that there is a relationship of shared group identity between these historic groups and the present-day Comanche Nation, Oklahoma; Delaware Nation, Oklahoma; Kickapoo Tribe of Oklahoma; Tonkawa Tribe of Indians of Oklahoma; Tunica-Biloxi Indian Tribe; and the Wichita and Affiliated Tribes (Wichita, Keechi, Waco & Tawakonie), Oklahoma.

Determinations Made by Texas A&M University

Officials of Texas A&M University have determined that:

• Pursuant to 25 U.S.C. 3001(9), the human remains described in this notice represent the physical remains of three individuals of Native American ancestry.

• Pursuant to 25 U.S.C. 3001(2), there is a relationship of shared group identity that can be reasonably traced between the Native American human remains and the Comanche Nation, Oklahoma; Delaware Nation, Oklahoma; Kickapoo Tribe of Oklahoma; Tonkawa Tribe of Indians of Oklahoma; Tunica-Biloxi Indian Tribe; and the Wichita and Affiliated Tribes (Wichita, Keechi, Waco & Tawakonie), Oklahoma.

Additional Requestors and Disposition

Lineal descendants or representatives of any Indian tribe or Native Hawaiian organization not identified in this notice that wish to request transfer of control of these human remains should submit a written request with information in support of the request to Dr. Suzanne L. Eckert, Department of Anthropology, Texas A&M University, College Station, TX 77843-4352, telephone (979) 845-5242, by May 19, 2014. After that date, if no additional requestors have come forward, transfer of control of the human remains to the Comanche Nation, Oklahoma; Delaware Nation, Oklahoma; Kickapoo Tribe of Oklahoma; Tonkawa Tribe of Indians of Oklahoma; Tunica-Biloxi Indian Tribe; and the Wichita and Affiliated Tribes (Wichita, Keechi, Waco & Tawakonie), Oklahoma.

Texas A&M University is responsible for notifying the Comanche Nation, Oklahoma; Delaware Nation, Oklahoma; Kickapoo Tribe of Oklahoma; Tonkawa Tribe of Indians of Oklahoma; Tunica-Biloxi Indian Tribe; and the Wichita and Affiliated Tribes (Wichita, Keechi, Waco & Tawakonie), Oklahoma, that this notice has been published.

Dated: March 4, 2014.
Sherry Hutt,
Manager, National NAGPRA Program.

[FR Doc. 2014-08786 Filed 4-16-14; 8:45 am]

BILLING CODE 4312-50-P